COMMITTEE FOR PURCHASE FROM PEOPLE WHO ARE BLIND OR SEVERELY DISABLED

Initial Regulatory Flexibility Act Certification

I certify that the following action will not have a significant impact on a substantial number of small entities. The major factors considered for this certification were:

1. If approved, the action will not result in any additional reporting, recordkeeping or other compliance requirements for small entities other than the small organization that will furnish the products to the Government.

2. If approved, the action will result in authorizing a small entity to furnish the products to the Government.

3. There are no known regulatory alternatives which would accomplish the objectives of the Javits-Wagner-O'Day Act (41 U.S.C. 8501-8506) in connection with the products proposed for addition to the Procurement List.

Items proposed for addition to the Procurement List:

Products

NSN(s)—Product Name(s): 5180-00-NIB-0025—Tool, Kit Refrigeration, Individual

5180-00-NIB-0026—Tool Kit, Refrigeration, Base

Mandatory for: 100% of the requirements of the U.S. Army

Mandatory Source of Supply: Beyond Vision, Milwaukee, WI

Contracting Activity: U.S. Army Contracting Command—Warren

Distribution: C-List

Deletions

1. If approved, the action will not result in additional reporting, recordkeeping or other compliance requirements for small entities.

2. If approved, the action may result in authorizing small entities to furnish the products and service to the Government.

3. There are no known regulatory alternatives which would accomplish the objectives of the Javits-Wagner-O'Day Act (41 U.S.C. 8501-8506) in connection with the products and service proposed for deletion from the Procurement List.

Items proposed for deletion from the Procurement List:

Products

NSN(s)—Product Name(s): 7930-01-619-1851—Cleaner, Wheel and Tire, 5 GL

7930-01-619-2632—Bug Remover, Concentrated, Gelling, Vehicle, 5 GL

Mandatory Source of Supply: VisionCorps, Lancaster, PA

Contracting Activity: General Services Administration, Fort Worth, TX

Service

Service Type: Grounds Maintenance Service

Mandatory for: Naval & Marine Corps Reserve Center, Encino, CA

Mandatory Source(s) of Supply: Lincoln Training Center and Rehabilitation Workshop, South El Monte, CA

Contracting Activity: Dept of the Navy, U.S. Fleet Forces Command

Dated: March 26, 2018.
Amy B. Jensen,
Director, Business Operations.

[FR Doc. 2018-06492 Filed 3-29-18; 8:45 am]

BILLING CODE 6353-01-P